INTERNATIONAL TRADE COMMISSION

[USITC SE-16-028]

Government in the Sunshine Act Meeting Notice

AGENCY HOLDING THE MEETING: United States International Trade Commission.

TIME AND DATE: August 17, 2016 at 11:00 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-539 and 731-TA-1280-1282 (Final)(Heavy Walled Rectangular Welded Carbon Steel Pipes and Tubes from Korea, Mexico, and Turkey). The Commission is currently scheduled to complete and file its determinations and views of the Commission on September 6, 2016.

5. Outstanding action jackets: None.

In accordance with Commission policy, subject matter listed above, not disposed of at the scheduled meeting, may be carried over to the agenda of the following meeting.

By order of the Commission.
Issued: August 10, 2016.
Lisa R. Barton,
Secretary to the Commission.

[FR Doc. 2016-19407 Filed 8-10-16; 4:15 pm]

BILLING CODE 7020-02-P